DEPARTMENT OF COMMERCE

International Trade Administration

[A-588-878]

Glycine From Japan: Final Results of Antidumping Duty Administrative Review; 2021-2022

AGENCY: Enforcement and Compliance, International Trade Administration, Department of Commerce.

SUMMARY: The U.S. Department of Commerce (Commerce) determines that Yuki Gosei Kogyo Co., Ltd. (YGK) and Nagase & Co., Ltd. (Nagase) (collectively, YGK/Nagase) made sales of glycine from Japan at less than normal value during the period of review (POR) June 1, 2021, through May 31, 2022.

DATES: Applicable December 20, 2023.

FOR FURTHER INFORMATION CONTACT: John Drury, AD/CVD Operations, Office VI, Enforcement and Compliance, International Trade Administration, U.S. Department of Commerce, 1401 Constitution Avenue NW, Washington, DC 20230; telephone: (202) 482-0195.

SUPPLEMENTARY INFORMATION:

Background

On July 7, 2023, Commerce published the Preliminary Results.¹ We invited interested parties to comment on the Preliminary Results. The review covers one mandatory respondent, YGK/Nagase. On November 3, 2023, Commerce extended the deadline for the final results of review until December 15, 2023.² A summary of the events that occurred since Commerce published the Preliminary Results, may be found in the Issues and Decision Memorandum.³

¹ See Glycine from Japan: Preliminary Results of Antidumping Duty Administrative Review, 2021-2022, 88 FR 43273 (July 7, 2023) (Preliminary Results), and accompanying Preliminary Decision Memorandum.

² See Memorandum, “Glycine from Japan: Extension of Deadline for Final Results of Antidumping Duty Administrative Review,” dated November 3, 2023.

³ See Memorandum, “Issues and Decision Memorandum for the Final Results of the Administrative Review of the Antidumping Duty Order on Glycine from Japan; 2021-2022,” dated concurrently with, and hereby adopted by, this notice (Issues and Decision Memorandum).

Scope of the Order

The merchandise covered by this order is glycine. Glycine and glycine slurry are classified under Harmonized Tariff Schedule of the United States (HTSUS) subheading 2922.49.43.00. Sodium glycinate is classified in the HTSUS under 2922.49.80.00. For a complete description of the scope of the order, see the Issues and Decision Memorandum.

Analysis of Comments Received

All issues raised in the case and rebuttal briefs by parties to this administrative review are addressed in the Issues and Decision Memorandum. For a list of the issues raised by parties, see the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on our review of the record and comments received from interested parties, we made certain changes to the margin calculations for YGK/Nagase.⁴ Specifically, we made changes to the calculation of indirect selling expenses, U.S. credit expense and inventory carrying cost, and financial expense.

⁴ See Issues and Decision Memorandum at Comments 4, 5, and 8.

Final Results of the Administrative Review

We determine that the following estimated weighted-average dumping margins exist for the period June 1, 2021, through May 31, 2022:

Producer/exporter | Estimated weighted- average dumping margin (percent)
Yuki Gosei Kogyo Co., Ltd./Nagase & Co., Ltd.⁵ | 0.00

Disclosure

⁵ Based on the record information, Commerce preliminarily determined that Nagase and YGK are affiliated within the meaning of section 771(33)(E) of Tariff Act of 1930, as amended (the Act), and should be treated as a single entity pursuant to 19 CFR 351.401(f). See Preliminary Results. No party commented on our preliminary determination with respect to this issue, and we have received no new information regarding this issue. Therefore, we determine that Nagase and YGK are affiliated within the meaning of section 771(33)(E) of the Act.

We will disclose the calculations performed to parties in this proceeding within five days after the date of the public announcement of these final results of review, in accordance with 19 CFR 351.224(b).

Assessment Rate

Commerce shall determine, and U.S. Customs and Border Protection (CBP) shall assess, antidumping duties on all appropriate entries.⁶ For any individually examined respondents whose weighted-average dumping margin is above de minimis (i.e., 0.5 percent), we calculated importer-specific ad valorem duty assessment rates based on the ratio of the total amount of dumping calculated for the importer's examined sales to the total entered value of those same sales, in accordance with 19 CFR 351.212(b)(1). Upon issuance of the final results of this administrative review, if any importer-specific assessment rates calculated in the final results are above de minimis, Commerce will issue instructions directly to CBP to assess antidumping duties on appropriate entries.

⁶ In these final results, Commerce applied the assessment rate calculation method adopted in Antidumping Proceedings: Calculation of the Weighted-Average Dumping Margin and Assessment Rate in Certain Antidumping Proceedings: Final Modification, 77 FR 8101 (February 14, 2012).

To determine whether the duty assessment rates covering the period were de minimis, in accordance with the requirement set forth in 19 CFR 351.106(c)(2), we calculated importer (or customer)-specific ad valorem rates by aggregating the amount of dumping calculated for all U.S. sales to that importer or customer and dividing this amount by the total entered value of the sales to that importer (or customer). Where an importer (or customer)-specific ad valorem rate is greater than de minimis, and the respondent has reported reliable entered values, we will apply the assessment rate to the entered value of the importer's/customer's entries during the POR.

Commerce intends to issue appropriate assessment instructions directly to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of this notice for all shipments of subject merchandise entered, or withdrawn from warehouse, for consumption on or after the publication of these final results, as provided by section 751(a)(2) of the Act: (1) the cash deposit rate for respondents noted above will be equal to the weighted-average dumping margins established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 53.66 percent, the all-others rate established in the less-than-fair-value investigation.⁷ These cash deposit requirements, when imposed, shall remain in effect until further notice.

⁷ See Glycine from India and Japan: Amended Final Affirmative Antidumping Duty Determination and Antidumping Duty Orders, 84 FR 29170 (June 21, 2019).

Notification to Importers Regarding the Reimbursement of Duties

This notice also serves as a final reminder to importers of their responsibility under 19 CFR 351.402(f) to file a certificate regarding the reimbursement of antidumping duties prior to liquidation of the relevant entries during the POR. Failure to comply with this requirement could result in Commerce's presumption that reimbursement of antidumping duties did occur and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.213(h) and 19 CFR 351.221(b)(5).

Dated: December 14, 2023.
Abdelali Elouaradia,
Deputy Assistant Secretary for Enforcement and Compliance.

Appendix

List of Topics Discussed in the Issues and Decision Memorandum

I. Summary

II. Background

III. Scope of the Order

IV. Discussion of the Issues

Comment 1: Affiliation

Comment 2: Commerce Must Obtain the Cost of Production for Sodium Glycinate, as YGK/Nagase's Further Processing of Sodium Glycinate is Minimal

Comment 4: Indirect Selling Expenses

Comment 5: U.S. Credit Expense and Inventory Carrying Cost

Comment 6: Rate for Glycine Produced by Unaffiliated Producer

Comment 7: Extraordinary Expenses/General and Administrative (G&A) Expenses

Comment 8: Financial Expense

V. Recommendation

[FR Doc. 2023-27949 Filed 12-19-23; 8:45 am]

BILLING CODE 3510-DS-P